FEDERAL DEPOSIT INSURANCE CORPORATION

FEDERAL RESERVE SYSTEM

[Docket No. OP-1369]

DEPARTMENT OF THE TREASURY

Office of the Comptroller of the Currency

[Docket ID OCC-2009-0013]

DEPARTMENT OF THE TREASURY

Office of Thrift Supervision

[Docket ID OTS-2009-0016]

Correspondent Concentration Risks: Reopening of Comment Period

AGENCIES: Federal Deposit Insurance Corporation (FDIC); Board of Governors of the Federal Reserve System (the Board), Office of the Comptroller of the Currency, Treasury (OCC); and Office of Thrift Supervision, Treasury (OTS).

ACTION: Extension of Comment Period for Proposed Guidance.

SUMMARY: On September 25, 2009, the FDIC, Board, OCC, and OTS (the Agencies) published proposed guidance on correspondent concentration risks (Proposed Guidance) for public comment. The Agencies are reopening the comment period on the Proposed Guidance for an additional 30 days.

DATES: Comments must be submitted on or before November 27, 2009.

ADDRESSES: Comments should be directed to:

FDIC: You may submit comments by any of the following methods:

Agency Web Site: http://www.fdic.gov/regulations/laws/federal. Follow instructions for submitting comments on the Agency Web Site.

E-mail: Comments@FDIC.gov. Include “Proposed Guidance on Correspondent Concentration Risks” in the subject line of the message.

Federal eRulemaking Portal: http://www.regulations.gov. Follow the instructions for submitting comments.

Mail: Robert E. Feldman, Executive Secretary, Attention: Comments, Federal Deposit Insurance Corporation, 550 17th Street, NW., Washington, DC 20429.

Hand Delivery/Courier: Guard station at the rear of the 550 17th Street Building (located on F Street) on business days between 7 a.m. and 5 p.m. (EST).

Public Inspection: All comments received will be posted without change to http://www.fdic.gov/regulations/laws/federal including any personal information provided. Comments may be inspected and photocopied in the FDIC Public Information Center, 3501 North Fairfax Drive, Room E-1002, Arlington, VA 22226, between 9 a.m. and 5 p.m. (EST) on business days. Paper copies of public comments may be ordered from the Public Information Center by telephone at (877) 275-3342 or (703) 562-2200.

FRB: You may submit comments, identified by Docket No. OP-1369, by any of the following methods:

Agency Web site: http://www.federalreserve.gov. Follow the instructions for submitting comments at http://www.federalreserve.gov/generalinfo/foia/ProposedRegs.cfm.

E-mail: regs.comments@federalreserve.gov. Include the docket number in the subject line of the message.

Federal eRulemaking Portal: http://www.regulations.gov. Follow the instructions for submitting comments.

Fax: (202) 452-3819 or (202) 452-3102.

Mail: Jennifer J. Johnson, Secretary, Board of Governors of the Federal Reserve System, 20th Street and Constitution Avenue, NW., Washington, DC 20551.

Public Inspection: All public comments are available from the Board's Web site at http://www.federalreserve.gov/generalinfo/foia/ProposedRegs.cfm as submitted, unless modified for technical reasons. Accordingly, your comments will not be edited to remove any identifying or contact information. Public comments may also be viewed in electronic or paper form in Room MP-500 of the Board's Martin Building (20th and C Streets, NW.) between 9 a.m. and 5 p.m. on weekdays.

OCC: You may submit comments by any of the following methods:

E-mail: regs.comments@occ.treas.gov.

Fax: (202) 874-5274.

Mail: Office of the Comptroller of the Currency, 250 E Street, SW., Mail Stop 2-3, Washington, DC 20219.

Hand Delivery/Courier: 250 E Street, SW., Attn: Public Information Room, Mail Stop 2-3, Washington, DC 20219.

Instructions: You must include “OCC” as the agency name and “Docket ID OCC-2009-0013” in your comment. In general, OCC will enter all comments received into the docket without change, including any business or personal information that you provide such as name and address information, e-mail addresses, or phone numbers. Comments, including attachments and other supporting materials, received are part of the public record and subject to public disclosure. Do not enclose any information in your comment or supporting materials that you consider confidential or inappropriate for public disclosure.

You may review comments and other related materials by any of the following methods:

Viewing Comments Personally: You may personally inspect and photocopy comments at the OCC, 250 E Street, SW., Washington, DC. For security reasons, the OCC requires that visitors make an appointment to inspect comments. You may do so by calling (202) 874-4700. Upon arrival, visitors will be required to present valid government-issued photo identification and submit to security screening in order to inspect and photocopy comments. You may also view or request available background documents and project summaries using the methods described above.

OTS: You may submit comments, identified by docket number ID OTS-2009-0016, by any of the following methods:

E-mail: regs.comments@ots.treas.gov. Please include ID OTS-2009-0016 in the subject line of the message and include your name and telephone number in the message.

Fax: (202) 906-6518.

Mail: Regulation Comments, Chief Counsel's Office, Office of Thrift Supervision, 1700 G Street, NW., Washington, DC 20552, Attention: ID OTS-2009-0016.

Hand Delivery/Courier: Guard's Desk, East Lobby Entrance, 1700 G Street, NW., from 9 a.m. to 4 p.m. on business days, Attention: Regulation Comments, Chief Counsel's Office, Attention: ID OTS-2009-0016.

Instructions: All submissions received must include the agency name and docket number for this notice. All comments received will be entered into the docket without change, including any personal information provided. Comments including attachments and other supporting materials received are part of the public record and subject to public disclosure. Do not enclose any information in your comments or supporting materials that you consider confidential or inappropriate for public disclosure.

Viewing Comments On-Site: You may inspect comments at the Public Reading Room, 1700 G Street, NW., by appointment. To make an appointment for access, call (202) 906-5922, send an e-mail to public.info@ots.treas.gov, or send a facsimile transmission to (202) 906-6518. (Prior notice identifying the materials you will be requesting will assist us in serving you.) We schedule appointments on business days between 10 a.m. and 4 p.m. In most cases, appointments will be available the next business day following the date we receive a request.

FOR FURTHER INFORMATION CONTACT: FDIC: Beverlea S. Gardner, Senior Examination Specialist, Division of Supervision and Consumer Protection, (202) 898-3640; or Mark G. Flanigan, Counsel, Legal Division, (202) 898-7426.

FRB: Barbara J. Bouchard, Associate Director, (202) 452-3072; or Craig A. Luke, Supervisory Financial Analyst, Supervisory Guidance and Procedures, 202-452-6409. For users of Telecommunications Device for the Deaf (“TDD”) only, contact (202) 263-4869.

OCC: Fred D. Finke, Liaison, Midsize-Community Bank Supervision, (202) 874-4468; or Kurt S. Wilhelm, Director, Financial Markets Group, (202) 874-4479.

OTS: Lori J. Quigley, Managing Director, Supervision, (202) 906-6265; or William J. Magrini, Senior Project Manager of Credit Policy, (202) 906-5744.

SUPPLEMENTARY INFORMATION: On September 25, 2009, the Agencies published for comment proposed guidance entitled “Correspondent Concentration Risks” (Proposed Guidance) 74 FR 48955. The Proposed Guidance stated that any comments on the proposal must be submitted on or before October 26, 2009. In response to requests for an extension of the comment period, the Agencies have decided to reopen the comment period on the Proposed Guidance for 30 days. The comment period will now run through November 27, 2009.

Dated at Washington, DC, the 2nd day of November, 2009.
By order of the Federal Deposit Insurance Corporation.
Robert E. Feldman,
Executive Secretary.
By order of the Board of Governors of the Federal Reserve System, acting through the Secretary of the Board under delegated authority, October 30, 2009.
Robert deV. Frierson,
Deputy Secretary of the Board.
Dated: October. 27, 2009.
Office of the Comptroller of the Currency.
John C. Dugan,
Comptroller of the Currency.
Dated: October 28, 2009.
By the Office of Thrift Supervision.
John E. Bowman,
Acting Director.

[FR Doc. E9-27069 Filed 11-9-09; 8:45 am]

BILLING CODE 6714-01-P, 6210-01-P, 4810-33-P, 6720-01-P